DEPARTMENT OF ENERGY

Office of Energy Efficiency and Renewable Energy

[Docket Number EERE-2013-BT-NOC-0005]

Appliance Standards and Rulemaking Federal Advisory Committee: Notice of Public Meeting

AGENCY: Office of Energy Efficiency and Renewable Energy, Department of Energy.

ACTION: Notice of open meeting.

SUMMARY: The Department of Energy (DOE) is announcing a public meeting and webinar for the Appliance Standards and Rulemaking Federal Advisory Committee (ASRAC). The Federal Advisory Committee Act requires that agencies publish notice of an advisory committee meeting in the Federal Register.

DATES: DOE will host a public meeting on Tuesday, October 18, 2016 from 10:00 a.m.-4:00 p.m. in Washington, DC.

ADDRESSES: The ASRAC public meeting will be held at the Navigant Offices, 1200 19th Street, Suite 700 NW., Washington, DC. To register for the webinar and receive call-in information, please register at: https://attendee.gotowebinar.com/register/6302070073686810372.

FOR FURTHER INFORMATION CONTACT: John Cymbalsky, ASRAC Designated Federal Officer, U.S. Department of Energy (DOE), Office of Energy Efficiency and Renewable Energy, 950 L'Enfant Plaza SW., Washington, DC 20024. Email: asrac@ee.doe.gov.

SUPPLEMENTARY INFORMATION: DOE is announcing a public meeting and webinar for ASRAC. Members of the public are welcome to observe the business of the meeting and, if time allows, may make oral statements during the specified period for public comment. To attend the meeting and/or to make oral statements, email asrac@ee.doe.gov. In the email, please indicate your name, organization (if appropriate), citizenship, and contact information.

Docket: The docket is available for review at www.regulations.gov, including Federal Register notices, public meeting attendee lists and transcripts, comments, and other supporting documents/materials. All documents in the docket are listed in the www.regulations.gov index. However, not all documents listed in the index may be publicly available, such as information that is exempt from public disclosure.

Issued in Washington, DC, on August 5, 2016.
Kathleen B. Hogan,
Deputy Assistant Secretary for Energy Efficiency, Energy Efficiency and Renewable Energy.

[FR Doc. 2016-19362 Filed 8-12-16; 8:45 am]

BILLING CODE 6450-01-P